DEPARTMENT OF TRANSPORTATION

Federal Aviation Administration

60th Meeting: RTCA Special Committee 135, Environmental Conditions and Test Procedures for Airborne Equipment

AGENCY: Federal Aviation Administration (FAA), U.S. Department of Transportation (DOT)

ACTION: Meeting Notice of RTCA Special Committee 135, Environmental Conditions and Test Procedures for Airborne Equipment

SUMMARY: The FAA is issuing this notice to advise the public of the sixtieth meeting of the RTCA Special Committee 135, Environmental Conditions and Test Procedures for Airborne Equipment

DATES: The meeting will be held November 8, 2012 from 9 a.m.—5 p.m.

ADDRESSES: The meeting will be held at FAA Aircraft Certification Office, 2601 Meacham Blvd., Ft. Worth, TX 76137. Foreign Nationals will need to complete a Foreign National Authorization Form. Send a completed form to host/point of contact: Daniele Jordan at the following email address: Danielle.Jordan@faa.gov.

FOR FURTHER INFORMATION CONTACT: The RTCA Secretariat, 1150 18th Street, NW., Suite 910, Washington, DC, 20036, or by telephone at (202) 330-0652/(202) 833-9339, fax at (202) 833-9434, or Web site at http://www.rtca.org.

SUPPLEMENTARY INFORMATION: Pursuant to section 10(a) (2) of the Federal Advisory Committee Act (Pub. L. No. 92-463, 5 U.S.C., App.), notice is hereby given for a meeting of Special Committee 135. The agenda will include the following:

November 8, 2012

• Chairmen's Opening Remarks, Introductions.

• Introduce FAA Representative

• Approval of Summary from the Fifty-Ninth Meeting

• Presentation on the rotorcraft DO-160 environmental qualification of equipment

• Review open proposal's for User's Guide's

• Review Working Group activities

• Section 4

• Section 5

• Section 8

• Section 16

• Section 20

• Section 21

• RTCA Workspace Discussion

• New/Unfinished Business

• Errata Sheet

• Schedule for Users Guide

• Establish Date for Next SC-135 Meeting

• Closing/Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 7, 2012.
David Sicard,
Manager, Business Operations Group, Federal Aviation Administration.

[FR Doc. 2012-22466 Filed 9-11-12; 8:45 am]

BILLING CODE 4910-13-P